DEPARTMENT OF TRANSPORTATION

Federal Aviation Administration

14 CFR Part 39

[Docket No. FAA-2022-0992; Project Identifier MCAI-2022-00173-R]

RIN 2120-AA64

Airworthiness Directives; Bell Textron Canada Limited (Type Certificate Previously Held by Bell Helicopter Textron Canada Limited) Helicopters

AGENCY: Federal Aviation Administration (FAA), DOT.

ACTION: Notice of proposed rulemaking (NPRM).

SUMMARY: The FAA proposes to supersede Airworthiness Directive (AD) 99-23-18, AD 2005-03-07, AD 2013-12-07, and AD 2014-04-07, which apply to certain Bell Helicopter Textron Canada (now Bell Textron Canada Limited) Model 407 helicopters. AD 99-23-18 requires revising the life limits for certain parts, replacing each part that has exceeded its life limit, and revising the Airworthiness Limitation Section (ALS) of the existing maintenance manual. AD 2005-03-07 requires establishing a maximum accumulated Retirement Index Number (RIN) count for certain crosstube assemblies and revising the ALS of the existing maintenance manual. AD 2013-12-07 requires inspecting the tailboom assembly for a crack, loose rivet, or other damage and depending on the inspection results, replacing certain parts. AD 2014-04-07 requires preflight checking, repetitively inspecting for a crack in certain tailbooms, modifying and re-identifying certain tailbooms, installing an improved horizontal stabilizer assembly, and revising the ALS of the existing maintenance manual. Since the FAA issued those ADs, a report was received of a crack on the tailboom lower skin due to fatigue damage and new and more restrictive airworthiness limitations have been issued. This proposed AD would require incorporating into existing maintenance records requirements (airworthiness limitations) as specified in the ALS service information. The FAA is proposing this AD to address the unsafe condition on these products.

DATES: The FAA must receive comments on this proposed AD by September 29, 2022.

ADDRESSES: You may send comments, using the procedures found in 14 CFR 11.43 and 11.45, by any of the following methods:

• Federal eRulemaking Portal: Go to www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address between 9 a.m. and 5 p.m., Monday through Friday, except Federal holidays.

For service information that is identified in this NPRM, contact Bell Textron Canada Limited, 12,800 Rue de l'Avenir, Mirabel, Quebec J7J 1R4, Canada; telephone 1-450-437-2862 or 1-800-363-8023; fax 1-450-433-0272; email productsupport@bellflight.com; or at www.bellflight.com/support/contact-support. You may view this service information at the FAA, Office of the Regional Counsel, Southwest Region, 10101 Hillwood Pkwy., Room 6N-321, Fort Worth, TX 76177. For information on the availability of this material at the FAA, call (817) 222-5110.

Examining the AD Docket

You may examine the AD docket at www.regulations.gov by searching for and locating Docket No. FAA-2022-0992; or in person at Docket Operations between 9 a.m. and 5 p.m., Monday through Friday, except Federal holidays. The AD docket contains this NPRM, the Transport Canada AD, any comments received, and other information. The street address for Docket Operations is listed above.

FOR FURTHER INFORMATION CONTACT: Andrea Jimenez, Aerospace Engineer, COS Program Management Section, Operational Safety Branch, Compliance & Airworthiness Division, FAA, 1600 Stewart Ave., Suite 410, Westbury, NY 11590; telephone (516) 228-7330; email andrea.jimenez@faa.gov.

SUPPLEMENTARY INFORMATION:

Comments Invited

The FAA invites you to send any written relevant data, views, or arguments about this proposal. Send your comments to an address listed under ADDRESSES. Include “Docket No. FAA-2022-0992; Project Identifier MCAI-2022-00173-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Andrea Jimenez, Aerospace Engineer, COS Program Management Section, Operational Safety Branch, Compliance & Airworthiness Division, FAA, 1600 Stewart Ave., Suite 410, Westbury, NY 11590; telephone (516) 228-7330; email andrea.jimenez@faa.gov. Any commentary that the FAA receives which is not specifically designated as CBI will be placed in the public docket for this rulemaking.

Background

The FAA issued AD 99-23-18, Amendment 39-11414 (64 FR 61784, November 15, 1999) (AD 99-23-18) for all Bell Helicopter Textron Canada (now Bell Textron Canada Limited) Model 407 helicopters. AD 99-23-18 was prompted by an engineering evaluation of additional flight test data, which resulted in redefining the service life for certain parts and revising the ALS of the existing maintenance manual AD 99-23-18 requires before further flight, revising the life limits for certain parts, and replacing each part that has exceeded its life limit with an airworthy part. AD 99-23-18 also requires revising the ALS of the existing maintenance manual to reflect these new life limits and annotating the component history card or equivalent record with the revised life limits.

The FAA issued AD 2005-03-07, Amendment 39-13963 (70 FR 7016, February 10, 2005) (AD 2005-03-07) for Bell Helicopter Textron Canada (now Bell Textron Canada Limited) Model 407 helicopters with landing gear crosstube assemblies, part number (P/N) 407-050-101-101 and -103; P/N 407-050-102-101 and -103; P/N 407-050-201-101 and -103; P/N 407-050-202-101 and -103; P/N 407-704-007-119; P/N 407-722-101; P/N 407-723-104; P/N 407-724-101; or P/N 407-725-104, installed. AD 2005-03-07 was prompted by fatigue testing, analysis, and evaluation by the manufacturer that determined that run-on landings impose a high stress on landing gear or crosstubes and may cause cracking in the area above the skid tube saddle. AD 2005-03-07 requires before further flight, establishing a component history card or equivalent record, converting accumulated run-on landings to an accumulated RIN count, and establishing a maximum accumulated RIN for certain crosstube assemblies. AD 2005-03-07 also requires replacing any crosstube assembly before it exceeds the maximum RIN life limit and revising the ALS of the existing maintenance manual to reflect this new life limit.

The FAA issued AD 2013-12-07, Amendment 39-17485 (78 FR 38546, June 27, 2013) (AD 2013-12-07) for Bell Helicopter Textron Canada (now Bell Textron Canada Limited) Model 407 helicopters with tailboom assembly P/N 407-030-801-201, 407-030-801-203, or 407-030-801-205, installed. AD 2013-12-07 was prompted by a stress analysis of the tailboom skin that revealed that high-stress-concentration areas are susceptible to skin cracking. AD 2013-12-07 requires for tailboom assemblies with 8,600 or more hours time-in-service (TIS), or with an unknown number of hours TIS, before the first flight of each day, inspecting the tailboom assembly for a crack; or within 25 hours TIS, or 30 days, whichever comes first, and thereafter at intervals not to exceed 50 hours TIS, inspecting for a crack around each fastener and above the edge of the upper stabilizer support. AD 2013-12-07 also requires for certain tailboom assemblies with 6,900 or more hours TIS, within 25 hours TIS or 30 days, whichever occurs first, inspecting the tailboom assembly for a crack by using either a 10X or higher power magnifying glass and thereafter inspecting at intervals not to exceed 150 hours TIS; or by eddy current inspecting and thereafter inspecting at intervals not to exceed 500 hours TIS.

Additionally, AD 2013-12-07 requires, within 100 hours TIS or at the next tailboom inspection, whichever occurs first, and thereafter at intervals not to exceed 300 hours TIS, inspecting the tailboom assembly for a crack, loose rivet, or other damage. Depending on the inspection results, AD 2013-12-07 requires if there is a crack, before further flight replacing the tailboom assembly with an airworthy part.

The FAA issued AD 2014-04-07, Amendment 39-17766 (79 FR 35481, June 23, 2014) (AD 2014-04-07) for Bell Helicopter Textron Canada (now Bell Textron Canada Limited) Model 407 helicopters serial numbers (S/Ns) 53000 through 53475, with tailboom P/N 407-030-801-101, -105, or -107, or 407-530-014-101 or -103, installed. AD 2014-04-07 was prompted by additional reports of cracked tailboom skins. AD 2014-04-07 requires for certain part-numbered tailbooms that have not been modified, conducting daily preflight checks of the tailboom for a crack; and for tailbooms with 600 or more hours TIS, within 25 hours TIS, and thereafter at intervals not to exceed 50 hours TIS, visually inspecting the tailboom for a crack using a 10X or higher power magnifying glass, and within 600 hours TIS but not later than 30 days modifying and re-identifying certain part-numbered tailbooms, and installing an improved horizontal stabilizer assembly. AD 2014-04-07 also requires for certain part-numbered tailbooms, after the modification, before further flight, establishing a component history card or equivalent record, and revising the existing ALS of the maintenance manual to reflect a new life limit.

AD 2014-04-07 also requires, for certain part-number tailbooms, within 25 hours TIS or 30 days, whichever occurs first, daily visual inspections of the tailboom for a crack, and within 100 hours TIS and thereafter at intervals not to exceed 100 hours TIS, using a 10X or higher power magnifying glass, inspecting each tailboom for a loose rivet, crack, skin corrosion, or any other damage. Depending on the inspection results, AD 2014-04-07 requires corrective actions, including, if there is a crack, replacing the tailboom assembly before further flight.

Actions Since AD 99-23-18, AD 2005-03-07, AD 2013-12-07, and AD 2014-04-07 Were Issued

Since the FAA issued AD 99-23-18, AD 2005-03-07, AD 2013-12-07, and AD 2014-04-07, Transport Canada, which is the aviation authority for Canada, issued AD CF-2021-34, dated October 22, 2021 (Transport Canada AD CF-2021-34), to correct an unsafe condition for Bell Textron Canada Limited Model 407 helicopters, S/N 53000 through 53900, 53911 through 54166, and 54300 and subsequent. Transport Canada advises of a report of a crack on the tailboom lower skin due to fatigue damage, which could affect the structural integrity of the tailboom. Transport Canada advises that Bell Textron Canada Limited issued a revision to the ALS, which adds a new inspection zone for tailboom assemblies to address the unsafe condition.

Accordingly, Transport Canada AD CF-2021-34 requires compliance with Bell BHT-407-MPI, Chapter 04, ALS, Issue 3, dated June 21, 2021, of Bell Model 407 Maintenance Planning Information, PMC-407-97499-01000-00, Issue No. 005, dated July 6, 2022 (BHT-407-MPI, ALS Issue 3), which includes maintenance tasks and life limits for the tailboom and other parts. The FAA is proposing this AD to prevent failure of a part, which could result in loss of control of the helicopter.

Additionally, although AD 99-23-18 and AD 2005-03-07 were prompted by unsafe conditions not related to the tailboom crack that prompted this proposed AD, the actions required to address the unsafe conditions in AD 99-23-18 and AD 2005-03-07 are included in BHT-407-MPI, ALS Issue 3. Therefore, the FAA is superseding AD 99-23-18, AD 2005-03-07, AD 2013-12-07, and AD 2014-04-07, in order to reduce the burden on operators by requiring compliance with a single AD in lieu of multiple FAA ADs.

AD 99-23-18 requires reducing the life limit for drive ring set P/N 406-010-126-107 from 49,000 RIN to 48,000 RIN, and replacing each part that has exceeded its life limit. BHT-407-MPI, ALS Issue 3 states the life limit for drive ring set P/N 406-010-126-107 is 100,000 RIN.

AD 2005-03-07 requires establishing a maximum accumulated RIN for certain crosstube assemblies of 5,000 RIN and replacing any crosstube assembly before it exceeds the maximum accumulated RIN. BHT-407-MPI, ALS Issue 3 adds an additional life limit to certain part-numbered crosstube assemblies of 2,500 landings or 5,000 RIN.

AD 2013-12-07 requires for tailboom assemblies with P/N 407-030-801-201, 407-030-801-203, or 407-030-801-205 and with 8,600 or more hours TIS, or with an unknown number of hours TIS, inspecting the tailboom assembly for a crack within 25 hours TIS or 30 days, whichever comes first; and thereafter at intervals not to exceed 50 hours TIS, inspecting for a crack. AD 2013-12-07 also requires for tailboom assemblies with 6,900 or more hours TIS, inspecting the tailboom assembly for a crack within 25 hours TIS or 30 days, whichever comes first. Thereafter AD 2013-12-07 requires either inspecting using a 10X or higher power magnifying glass and thereafter repeating that inspection at intervals not to exceed 150 hours TIS or eddy current inspecting and thereafter repeating the eddy current inspection at intervals not to exceed 500 hours TIS. AD 2013-12-07 also requires within 100 hours TIS or at the next tailboom inspection, whichever comes first, and thereafter at intervals not to exceed 300 hours TIS, inspecting the tailboom assembly for a loose rivet, crack, or other damage.

BHT-407-MPI, ALS Issue 3 adds tailboom assembly P/N 407-530-013-105 and successive dash numbers, and also specifies for tailboom assembly P/N 407-530-013-105 and successive dash numbers and P/N 407-030-801-201 and successive dash numbers, inspecting for a crack every 300 hours; and for tailbooms that have accumulated 6,900 or more hours in service inspecting every 150 hours using a 10X magnifying glass inspection method, or eddy current inspecting every 500 hours; and for tailboom assemblies that have accumulated 8,600 or more hours in service, or with total time unknown, inspecting for a crack either with a daily visual inspection or with a 10X magnifying glass inspection method at intervals not to exceed 50 hours. Additionally, BHT-407-MPI, ALS Issue 3 specifies additional inspection zones, intervals, and criteria.

AD 2014-04-07 requires modifying and re-identifying tailboom P/N 407-030-801-101 as 407-530-014-101, and P/N 407-030-801-105 as P/N 407-530-014-103. AD 2014-04-07 also requires for tailboom P/N 407-530-014-101 and -103, and P/N 407-030-801-107, establishing a retirement life of 5,000 hours TIS, and daily checks for a crack and recurring inspections using a 10X or higher power magnifying glass at intervals not to exceed 100 hours TIS for a loose rivet, a crack, skin corrosion, or other damage. BHT-407-MPI, ALS Issue 3 specifies for tailboom P/N 407-530-014-101 and successive dash numbers, and P/N 407-030-801-107 and successive dash numbers, daily and recurring inspections for a crack every 100 hours TIS. BHT-407-MPI, ALS Issue 3 also revises the inspection areas.

FAA's Determination

These helicopters have been approved by the aviation authority of Canada and are approved for operation in the United States. Pursuant to the FAA's bilateral agreement with Canada, Transport Canada, its technical representative, has notified the FAA of the unsafe condition described in its AD. The FAA is proposing this AD after evaluating all known relevant information and determining that the unsafe condition described previously is likely to exist or develop on other helicopters of the same type design.

Related Service Information Under 1 CFR Part 51

The FAA reviewed BHT-407-MPI, ALS Issue 3, which specifies certain actions and associated thresholds and intervals, including life limits and maintenance tasks. These requirements (airworthiness limitations) include new inspection zones and new maintenance tasks (e.g., inspections for cracks) with new compliance times.

This service information is reasonably available because the interested parties have access to it through their normal course of business or by the means identified in the ADDRESSES section.

Proposed AD Requirements in This NPRM

This proposed AD would supersede AD 99-23-18, AD 2005-03-07, AD 2013-12-07, and AD 2014-04-07, and would require incorporating into existing maintenance records requirements (airworthiness limitations), which are identified in BHT-407-MPI, ALS Issue 3, as described previously.

ADs Mandating Airworthiness Limitations

The FAA has previously mandated airworthiness limitations by mandating each airworthiness limitation task (e.g., inspections and replacements (life limits)) as an AD requirement or issuing ADs that require revising the ALS of the existing maintenance manual or instructions for continued airworthiness to incorporate new or revised inspections and life limits. This proposed AD, however, would require operators to incorporate into maintenance records required by 14 CFR 91.417(a)(2) or 135.439(a)(2), as applicable for your rotorcraft, the requirements (airworthiness limitations) identified in the ALS service information, as described previously. The FAA does not intend this as a substantive change. For these ADs, the ALS requirements for operators are the same but are complied with differently. Requiring the incorporation of the new ALS requirements into the existing maintenance records, rather than requiring individual ALS tasks (e.g., repetitive inspections and replacements), requires operators to record AD compliance once after updating the maintenance records, rather than after every time the ALS task is completed.

Differences Between This Proposed AD and Transport Canada AD CF-2021-34 or the Service Information

Transport Canada AD CF-2021-34 does not supersede any previously issued Transport Canada ADs, whereas this proposed AD would supersede FAA AD 99-23-18, AD 2005-03-07, AD 2013-12-07, and AD 2014-04-07. The airworthiness limitations specified in Transport Canada AD CF-2021-34 encompass the requirements of AD 99-23-18, AD 2005-03-07, AD 2013-12-07, and AD 2014-04-07.

Additionally, Transport Canada AD CF-2021-34 is applicable to certain serial-numbered Bell Textron Canada Limited Model 407 helicopters, whereas this proposed AD would be applicable to all serial-numbered Model 407 helicopters.

The service information specifies replacing each component before exceeding the applicable airworthiness life limit, accomplishing all applicable maintenance tasks within the defined thresholds and intervals, and performing the specified corrective action(s) if a defect is found during the inspection, whereas this proposed AD would require incorporating requirements (airworthiness limitations) into existing maintenance records within 30 days after the effective date of the AD.

Costs of Compliance

The FAA estimates that this AD, if adopted as proposed, would affect 791 helicopters of U.S. Registry. Labor rates are estimated at $85 per work-hour. Based on these numbers, the FAA estimates the following costs to comply with this proposed AD.

Incorporating requirements (airworthiness limitations) into existing maintenance records would take about 2 work-hours for an estimated cost of $170 per helicopter and $134,470 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 99-23-18, Amendment 39-11414 (64 FR 61784, November 15, 1999); Airworthiness Directive 2005-03-07, Amendment 39-13963 (70 FR 7016, February 10, 2005); Airworthiness Directive 2013-12-07, Amendment 39-17485 (78 FR 38546, June 27, 2013); and Airworthiness Directive 2014-04-07, Amendment 39-17766 (79 FR 35481, June 23, 2014); and

b. Adding the following new airworthiness directive:

Bell Textron Canada Limited (Type Certificate Previously Held by Bell Helicopter Textron Canada Limited): Docket No. FAA-2022-0992; Project Identifier MCAI-2022-00173-R.

(a) Comments Due Date

The FAA must receive comments on this airworthiness directive (AD) by September 29, 2022.

(b) Affected ADs

This AD replaces the ADs specified in paragraphs (b)(1) through (4) of this AD.

(1) AD 99-23-18, Amendment 39-11414 (64 FR 61784, November 15, 1999).

(2) AD 2005-03-07, Amendment 39-13963 (70 FR 7016, February 10, 2005).

(3) AD 2013-12-07, Amendment 39-17485 (78 FR 38546, June 27, 2013).

(4) AD 2014-04-07, Amendment 39-17766 (79 FR 35481, June 23, 2014).

Note 1 to paragraph (b): The requirements of this AD capture the latest tasks and life limits required to prevent the unsafe conditions addressed by the ADs that are identified in paragraphs (b)(1) through (4) of this AD.

(c) Applicability

This AD applies to all Bell Textron Canada Limited (type certificate previously held by Bell Helicopter Textron Canada Limited) Model 407 helicopters, certificated in any category.

(d) Subject

Joint Aircraft Service Component (JASC) Code: 5300, Fuselage Structure.

(e) Unsafe Condition

This AD was prompted by a report of a crack on the tailboom lower skin due to fatigue damage and the issuance of new and more restrictive airworthiness limitations. The FAA is issuing this AD to prevent failure of a part, which could result in loss of control of the helicopter.

(f) Compliance

Comply with this AD within the compliance times specified, unless already done.

(g) Required Actions

Within 30 days after the effective date of this AD, incorporate into maintenance records required by 14 CFR 91.417(a)(2) or 135.439(a)(2), as applicable for your helicopter, the requirements (airworthiness limitations) specified in Bell BHT-407-MPI, Chapter 04, Airworthiness Limitations Schedule, Issue 3, dated June 21, 2021, of Bell Model 407 Maintenance Planning Information, PMC-407-97499-01000-00, Issue No. 005, dated July 6, 2022.

(h) Provisions for Alternative Requirements (Airworthiness Limitations)

After the actions required by paragraph (g) of this AD have been done, no alternative requirements (airworthiness limitations) are allowed unless they are approved as an alternative method of compliance (AMOC) in accordance with the procedures specified in paragraph (j)(1) of this AD.

(i) Special Flight Permits

Special flight permits may be issued in accordance with 14 CFR 21.197 and 21.199, provided no passengers are onboard.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k)(1) of this AD. Information may be emailed to: 9-AVS-AIR-730-AMOC@faa.gov.

(2) Before using any approved AMOC, notify your appropriate principal inspector, or lacking a principal inspector, the manager of the local flight standards district office/certificate holding district office.

(k) Related Information

(1) For more information about this AD, contact Andrea Jimenez, Aerospace Engineer, COS Program Management Section, Operational Safety Branch, Compliance & Airworthiness Division, FAA, 1600 Stewart Ave., Suite 410, Westbury, NY 11590; telephone (516) 228-7330; email andrea.jimenez@faa.gov.

(2) For service information identified in this AD, contact Bell Textron Canada Limited, 12,800 Rue de l'Avenir, Mirabel, Quebec J7J 1R4, Canada; telephone 1-450-437-2862 or 1-800-363-8023; fax 1-450-433-0272; email productsupport@bellflight.com; or at www.bellflight.com/support/contact-support. You may view this referenced service information at the FAA, Office of the Regional Counsel, Southwest Region, 10101 Hillwood Pkwy., Room 6N-321, Fort Worth, TX 76177. For information on the availability of this material at the FAA, call (817) 222-5110.

(3) The subject of this AD is addressed in Transport Canada AD CF-2021-34, dated October 22, 2021. You may view the Transport Canada AD on the internet at www.regualtions.gov in Docket No. FAA-2022-0992.

Issued on August 4, 2022.
Christina Underwood,
Acting Director, Compliance & Airworthiness Division, Aircraft Certification Service.

[FR Doc. 2022-17140 Filed 8-12-22; 8:45 am]

BILLING CODE 4910-13-P